DEPARTMENT OF DEFENSE

Department of the Navy

Notice of Availability of Government-Owned Inventions; Available for Licensing

AGENCY: Department of the Navy, DoD.

ACTION: Notice.

SUMMARY: The inventions listed below are assigned to the United States Government as represented by the Secretary of the Navy and are available for licensing by the Department of the Navy.

The following patents are available for licensing: Patent application 12/650,413: Finite State Machine Architecture for Software Development (a system for developing an application program having functionality that corresponds to a finite state machine model)//U.S. Patent No. 8,238,924: Real-Time Optimization of Allocation of Resources//U.S. Patent No. 7,685,207: Adaptive Web-Based Asset Control System.

ADDRESSES: Requests for copies of the patents cited should be directed to Office of Counsel, Naval Surface Warfare Center, Crane Div, Code OOL, Bldg 2, 300 Highway 361, Crane, IN 47522-5001.

FOR FURTHER INFORMATION CONTACT: Mr. Christopher Monsey, Naval Surface Warfare Center, Crane Div, Code OOL, Bldg 2, 300 Highway 361, Crane, IN 47522-5001, telephone (812) 854-4100.

Authority: 35 U.S.C. 207, 37 CFR part 404.

Dated: December 31, 2012.
C. K. Chiappetta,
Lieutenant Commander, Office of the Judge Advocate General, U.S. Navy, Federal Register Liaison Officer.

[FR Doc. 2013-00066 Filed 1-7-13; 8:45 am]

BILLING CODE 3810-FF-P